DEPARTMENT OF LABOR

Employment and Training Administration

[TA-W-61,038]

Delphi Corporation, Automotive Holdings Group, Including On-Site Leased Workers from Bartech, Msx, Inc., Production Design Services, Troy Design and Setech, Inc., Moraine, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 16, 2007, applicable to workers of Delphi Corporation, Automotive Holdings Group, including on-site leased workers from Bartech, MSX, Inc., Production Design Services and Troy Design, Moraine, Ohio. The notice was published in the Federal Register on March 30, 2007 (72 FR 15167).

At the request of the petitioners, the Department reviewed the certification for workers of the subject firm. The workers were engaged in the production of automotive compressors and pistons.

New information shows that leased workers of Setech, Inc. were employed on-site at the Moraine, Ohio location of Delphi Corporation, Automotive Holdings Group. The Department has determined that these workers were sufficiently under the control of the subject firm to be considered leased workers.

Based on these findings, the Department is amending this certification to include leased workers of Setech, Inc. working on-site at the Moraine, Ohio location of the subject firm.

The intent of the Department's certification is to include all workers employed at Delphi Corporation, Automotive Holdings Group, Moraine, Ohio, who were adversely affected by a shift in production of automotive compressors and pistons to Mexico.

The amended notice applicable to TA-W-61,038 is hereby issued as follows:

“All workers of Delphi Corporation, Automotive Holdings Group, including on-site leased workers of Bartech, MSX, Inc., Production Design Services, Troy Design and Setech, Inc., Moraine, Ohio, who became totally or partially separated from employment on or after February 26, 2006 through March 16, 2009, are eligible to apply for adjustment assistance under Section 223 of the Trade Act of 1974, and are also eligible to apply for alternative trade adjustment assistance under Section 246 of the Trade Act of 1974.”

Signed at Washington, DC this 1st day of May 2008.
Linda G. Poole,
Certifying Officer, Division of Trade Adjustment Assistance.

[FR Doc. E8-10585 Filed 5-12-08; 8:45 am]

BILLING CODE 4510-FN-P